DEPARTMENT OF HOUSING AND URBAN DEVELOPMENT

[Docket No. FR-4509-N-11]

Public Housing Assessment System (PHAS) Information on PHAS Scoring Procedures

AGENCY: Office of the Assistant Secretary for Public and Indian Housing, and Office of the Director of the Real Estate Assessment Center, HUD.

ACTION: Notice.

SUMMARY: In this edition of the Federal Register, HUD is publishing additional information for public housing agencies, their residents and members of the public about HUD's process for issuing scores for each of the four PHAS Indicators: Physical Condition; Financial Condition; Management Operations; and Resident Service and Satisfaction.

FOR FURTHER INFORMATION CONTACT: For further information contact the Real Estate Assessment Center (REAC), Attention: Wanda Funk, U.S. Department of Housing and Urban Development, 1280 Maryland Avenue, SW, Suite 800, Washington, DC 20024; telephone Technical Assistance Center at (888)-245-4860 (this is a toll free number). Persons with hearing or speech impairments may access that number via TTY by calling the Federal Information Relay Service at (800) 877-8339. Additional information is available from the REAC Internet Site, http://www.hud.gov/reac.

SUPPLEMENTARY INFORMATION:

I. Background

On January 11, 2000 (65 FR 1712), HUD issued a final rule that made certain amendments to the Public Housing Assessment System (PHAS) regulations. The PHAS was implemented by final regulations published on September 1, 1998. The amendments published to the PHAS regulations on January 11, 2000, followed a proposed rule published on June 22, 1999, and were prompted by both statutory and administrative changes to the PHAS.

On June 6, 2000, HUD published a technical correction to the January 11, 2000, final rule, and HUD also published a notice that provided further transition assistance to PHAs with fiscal years ending March 31, 2000, and June 30, 2000, by allowing these PHAs to inspect occupied units in accordance with HUD's Housing Quality Standards (HQS). Under sub-indicator #3 of PHAS Indicator #3, Management Operations, PHAs are assessed on the percentage of units and systems that a PHA inspects on an annual basis in order to determine short-term maintenance needs and long-term Capital Fund needs. In the June 6, 2000, Transition Notice, HUD also advised that PHAs with fiscal years ending March 31, 2000, would receive PHAS advisory scores. PHAS scores will be issued to PHAs with fiscal years ending on or after June 30, 2000.

II. PHAS Scoring Notices

In this edition of the Federal Register, HUD is publishing its scoring notices for each of the four PHAS Indicators: Physical Condition; Financial Condition; Management Operations, and Resident Service and Satisfaction. For the Management Operations Indicator, HUD is publishing two scoring notices. The first Management Operations scoring notice is applicable to PHAs with fiscal years ending September 30, 1999, to December 31, 1999. The second Management Operations scoring notice is applicable to PHAs with fiscal years ending on or after March 31, 2000. The reason for the two notices is that the January 11, 2000, final rule made substantive changes to the Management Operations Indicator and those changes are reflected in the second Management Operations Scoring Notice. PHAs with fiscal years ending before 1999, were covered by the PHAS regulations before amendments made by the January 11, 2000, final rule. The first Management Operations Scoring Notice reflects the earlier regulation.

All the PHAS scoring notices published in this edition of the Federal Register take into consideration public comment received on the notices published on May 13, 1999 and again on June 13, 1999.

Dated: June 20, 2000.
Harold Lucas,
Assistant Secretary for Public and Indian Housing.

Donald J. LaVoy,
Director, Real Estate Assessment Center.

[FR Doc. 00-16152 Filed 6-27-00; 8:45 am]

BILLING CODE 4210-01-P